NATIONAL AERONAUTICS AND SPACE ADMINISTRATION

Notice (00-092)

Conduct of Employees, Notice of Waiver Pursuant to Section 207(j)(5), Title 18, United States Code

AGENCY: National Aeronautics and Space Administration.

ACTION: Notice.

SUMMARY: The Administrator of the National Aeronautics and Space Administration has determined, after consultation with the Director of the Office of Government Ethics, that it is in the national interest to waive the post-employment restrictions of Section 207, Title 18, United States Code, with respect to the former Deputy Director for Launch and Payload Processing, at Kennedy Space Center, Loren Shriver.

FOR FURTHER INFORMATION CONTACT: R. Andrew Falcon, Office of the General Counsel, NASA Headquarters, Washington, DC 20546, 202-358-2028.

SUPPLEMENTARY INFORMATION: Section 207(j)(5) of Title 18 of the United States Code authorizes the Administrator of the National Aeronautics and Space Administration to waive the post-employment restrictions of subsections 207(a)(1), 207(a)(2), and 207(c), to permit a former employee with outstanding qualifications in a scientific, technological, or other technical discipline to make appearances before or communications to the Government in connection with a particular matter which requires such qualifications, where it has been determined that the national interest would be served by the participation of the former employee.

It has been established to my satisfaction that Loren Shriver, the former Deputy Director for Launch and Payload Processing at Kennedy Space Center, has outstanding technological qualifications in mission control, launch processing, and flight operations. Mr. Shriver has unique experience in the areas of Space Shuttle operations and launch integration. In his most recent position and as Space Shuttle Program Manager, Launch Integration, he acquired unique knowledge of flight hardware integration, test, and check out, and established the current standard technical determinations that are required to establish flight readiness. He headed the Program Requirements Control Board, which meets daily to enable NASA, the prime contractors, and subcontractors to resolve pre-flight anomalies related to orbiter and payload processing. In addition to his experience in Space Shuttle processing and launch, Mr. Shriver has expert knowledge of the Space Shuttle vehicle systems, flight hardware, mission integration and mission execution gained through his 15 years of service as a Space Shuttle astronaut, mission commander, and Deputy Chief of the Astronaut Office. I am satisfied that, as the Deputy Program Manager for Operations for the United Space Alliance in connection with the Space Flight Operations Contract, NAS 9-20000, he will be required to utilize these qualifications in the performance of his duties with respect to the processing and launch of the Space Shuttle and related systems, and that it will be in the national interest to permit him to appear before and communicate with Government officials on these matters.

Therefore, after consultation with the Office of Government Ethics, I have waived the post-employment prohibitions of subsections 207(a)(1), 207(a)(2), and 207(c) of Title 18 of the United States Code in order to permit direct communications between Mr. Shriver and employees of NASA and other Government agencies with respect to space flight activities.

Dated: July 27, 2000.
Daniel S. Goldin,
NASA Administrator.

[FR Doc. 00-19755 Filed 8-3-00; 8:45 am]

BILLING CODE 7510-01-P